Proclamation 9018 of September 13, 2013

National Hispanic-Serving Institutions Week, 2013

By the President of the United States of America

A Proclamation

There is no better investment than a great education—both for young people individually, and for our Nation as a whole. In an increasingly competitive, knowledge-based economy, higher education helps build a skilled workforce and provides clear pathways to success. Hispanic-Serving Institutions (HSIs) impart essential knowledge while broadening horizons and giving students the tools to pursue their own measure of happiness. During National Hispanic-Serving Institutions Week, we celebrate these institutions, renew our support for their mission, and recommit to helping tomorrow's leaders reach their fullest potential.

Preparing to fill the jobs of today and tomorrow requires our Nation to share in the responsibility of making college more accessible, affordable, and attainable for all Americans. As more than 20 percent of our Nation's elementary and high school students are Hispanic, HSIs play an integral role in helping fulfill this commitment. That is why the Federal Government will invest more than $1 billion in these vital institutions over the course of this decade. At the same time, we are tackling rising college costs, expanding Pell Grants, promoting innovation and value in higher education, and improving student loan repayment options. If we continue to support and challenge our students, I am confident that America can have the world's highest share of college graduates by 2020.

Hispanic-Serving Institutions enable young people and adults to explore their intellectual passions. From the arts and humanities to education to science, technology, engineering, and mathematics, HSIs help students hone their talents, launch their careers, and eventually become leaders in their fields. As we honor America's Hispanic-Serving Institutions, let us fight to remain a country that rewards hard work, responsibility, and the pursuit of education. Let us advance a principle at the heart of the American dream—that no matter who you are or where you come from, in the United States of America, you can make it if you try.

NOW, THEREFORE, I, BARACK OBAMA, President of the United States of America, by virtue of the authority vested in me by the Constitution and the laws of the United States, do hereby proclaim September 15 through September 21, 2013, as National Hispanic-Serving Institutions Week. I call on public officials, educators, and all the people of the United States to observe this week with appropriate programs, ceremonies, and activities that acknowledge the many ways these institutions and their graduates contribute to our country.

IN WITNESS WHEREOF, I have hereunto set my hand this thirteenth day of September, in the year of our Lord two thousand thirteen, and of the Independence of the United States of America the two hundred and thirty-eighth.

[FR Doc. 2013-22887

Filed 9-17-13; 11:15 am]

Billing code 3295-F3